DEPARTMENT OF TRANSPORTATION

Federal Aviation Administration

14 CFR Part 71

[Docket No. FAA-2023-2493; Airspace Docket No. 23-AGL-25]

RIN 2120-AA66

Amendment of Jet Route J-89 and VOR Federal Airway V-161, and Establishment of Canadian RNAV Route Q-834; Northcentral United States

AGENCY: Federal Aviation Administration (FAA), DOT.

ACTION: Final rule; correction.

SUMMARY: This action corrects a final rule published by the FAA in the Federal Register on June 18, 2024, that amended Jet Route J-89 and Very High Frequency Omnidirectional Range (VOR) Federal Airway V-161, and established Canadian Area Navigation (RNAV) Route Q-834 in United States (U.S.) airspace. In the Q-834 description in the final rule, the order of the listed route points was reversed in error. This action makes editorial corrections to list the Q-834 route points to match the route data forms and the FAA National Airspace System Resource (NASR) database information.

DATES: Effective date 0901 UTC, September 5, 2024. The Director of the Federal Register approves this incorporation by reference action under 1 CFR part 51, subject to the annual revision of FAA Order 7400.11 and publication of conforming amendments.

ADDRESSES: A copy of the Notice of Proposed Rulemaking (NPRM), all comments received, the final rule, this final rule correction, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

History

The FAA published a final rule in the Federal Register (89 FR 51403; June 18, 2024), amending Jet Route J-89 and VOR Federal Airway V-161, and establishing Canadian RNAV Route Q-834 in U.S. airspace. Subsequent to publication, the FAA determined that the Q-834 route points listed in the route description did not match the order of the route points listed in the route data forms or the FAA NASR database. This rule corrects that mismatch of route points listed in the rule, the route data forms, and NASR database by reversing the order of the route points listed in the Q-834 description published in the final rule.

This is an editorial change only to match the Q-834 description with the route data forms and FAA NASR database information and does not alter the alignment of the new Q-834 route.

Correction to Final Rule

Accordingly, pursuant to the authority delegated to me, Canadian RNAV route Q-834 reflected in Docket No. FAA-2023-2493, as published in the Federal Register of June 18, 2024 (89 FR 51403), FR Doc. 2024-13209, is corrected as follows:

1. On page 51405, correct the table for Q-834 Duluth, MN (DLH) to ALBNG, MN [New] to read:

Q-834 ALBNG, MN to Duluth, MN (DLH) [New]
ALBNG, MN | WP | (Lat. 48°59′58.05″ N, long. 095°38′10.41″ W)
Duluth, MN (DLH) | VORTAC | (Lat. 46°48′07.79″ N, long. 092°12′10.33″ W)

Issued in Washington, DC, on July 19, 2024.
Frank Lias,
Manager, Rules and Regulations Group.

[FR Doc. 2024-16274 Filed 7-24-24; 8:45 am]

BILLING CODE 4910-13-P